DEPARTMENT OF DEFENSE

Department of the Army; Corps of Engineers

Withdrawal of Notice of Intent to Prepare a Draft Environmental Impact Statement (DEIS) for the Baltimore Metropolitan Water Resources Study—Gwynns Falls in Baltimore County, Maryland

AGENCY: Department of the Army, U.S. Army Corps of Engineers, DOD.

ACTION: Notice.

SUMMARY: The Baltimore District of the U.S. Army Corps of Engineers (Corps) is withdrawing its intent to prepare a DEIS for the Baltimore Metropolitan Water Resources Study—Gwynns Falls in Baltimore County, Maryland. The Notice of Intent for the DEIS was published in the Federal Register on July 9, 1996 (Volume 61, Number 132, Page 36038). Negative environmental impacts of the recommended plan are not significant and the Corps has determined that a DEIS is not appropriate.

FOR FURTHER INFORMATION CONTACT: Mr. Steve Garbarino, Project Manager, Baltimore District, Corps of Engineers, CENAB-PP-C, P.O. Box 1715, Baltimore, MD 21203-1715, phone (410) 962-6134, e-mail: steve.d.garbarion@usace.army.mil; or Mr. Christopher Spaur, Ecologist, same address except CENAB-PL-P, phone (410) 962-6134, e-mail: christopher.c.spaur@usace.army.mil.

SUPPLEMENTARY INFORMATION: (1) In January 2006, the Project Report for Gwynns Falls and April 2004 Baltimore Metropolitan Water Resources Gwynns Falls Watershed Study Draft Feasibility Report and Integrated Environmental Assessment (report) were made available for agency and public review. The public review period formally ended on March 9, 2006. No agency or public comments were received during the review period. However, the proposed projects had previously been extensively coordinated with resource agencies and the public and were supported by both. The document contains letters of support from the U.S. Fish and Wildlife Service and U.S. Environmental Protection Agency.

(2) The report describes sanitary sewer rehabilitation, stream restoration, wetlands restoration, and stormwater management projects that the Corps and City of Baltimore (City) will construct within the Gwynns Fall watershed. The projects were authorized and partially funded by the Fiscal Year 2006 and Fiscal Year 2004 Energy and Water Appropriations Acts (Public Laws 109-103 and 108-137, respectively). The 2006 Act states that the City shall receive credit toward its share for work carried out prior to execution of a project cooperation agreement, if the Secretary of the Army determines that the work is integral to the projects. The 2006 Act further provides that the City may also receive credit for any work performed pursuant to a project cooperation agreement and that the City shall be reimbursed for any work performed that is in excess of its share of project costs.

Amy M. Guise,
Chief, Civil Project Development Branch.

[FR Doc. 06-9051 Filed 11-2-06; 8:45 am]

BILLING CODE 3710-41-M